DEPARTMENT OF EDUCATION

[Docket No.: ED-2018-ICCD-0028]

Higher Education Hurricane and Wildfire Relief Program Application; Reopening of Comment Period

AGENCY: Office of Postsecondary Education (OPE), Department of Education (ED).

ACTION: Notice; reopening of comment period.

SUMMARY: On March 26, 2018, the U.S. Department of Education published an emergency comment period notice in the Federal Register on Monday, March 26, 2018 (83 FR 12945, Column 3; Page 12946, Column 1, 2) seeking public comment for an information collection entitled, “Higher Education Hurricane and Wildfire Relief Program Application”.

DATES: The closing date for the comment period has been reopened and extended to April 5, 2018.

SUPPLEMENTARY INFORMATION: The Acting Director, Information Collection Clearance Division, Office of the Chief Privacy Officer, Office of Management, hereby issues a notice as required by the Paperwork Reduction Act of 1995.

Dated: March 29, 2018.
Tomakie Washington,
Acting Director, Information Collection Clearance Division, Office of the Chief Privacy Officer, Office of Management.

[FR Doc. 2018-06729 Filed 3-30-18; 8:45 am]

BILLING CODE P